DEPARTMENT OF COMMERCE

International Trade Administration

[C-570-944]

Certain Oil Country Tubular Goods From the People's Republic of China: Final Results of Expedited First Sunset Review of the Countervailing Duty Order

AGENCY: Enforcement and Compliance, International Trade Administration, Department of Commerce.

SUMMARY: The Department of Commerce (the Department) finds that revocation of the countervailing duty (CVD) order on certain oil country tubular goods (OCTG) from the People's Republic of China (PRC) would be likely to lead to continuation or recurrence of countervailable subsidies at the levels indicated in the “Final Results of Sunset Review” section of this notice.

DATES: Effective Date: April 10, 2015.

FOR FURTHER INFORMATION CONTACT: Shane Subler, AD/CVD Operations, Office I, Enforcement and Compliance, International Trade Administration, U.S. Department of Commerce, 14th Street and Constitution Avenue NW., Washington, DC 20230; telephone (202) 482-0189.

SUPPLEMENTARY INFORMATION:

Background

On January 20, 2010, the Department published the CVD order on OCTG from the PRC.¹ On December 1, 2014, the Department published a notice of initiation of the first sunset review of the CVD Order on OCTG from the PRC, pursuant to section 751(c) of the Tariff Act of 1930, as amended (the Act).²

¹ See Certain Oil Country Tubular Goods from the People's Republic of China: Amended Final Affirmative Countervailing Duty Determination and Countervailing Duty Order, 75 FR 3203 (January 20, 2010) (CVD Order).

² See Initiation of Five-Year (“Sunset”) Review, 79 FR 71091 (December 1, 2014).

On December 3, 2014, Maverick Tube Corporation (Maverick) timely notified the Department of its intent to participate.³ On December 10, 2014, Boomerang Tube (Boomerang), Energex Tube, a division of JMC Steel Group (Energex Tube), EVRAZ Rocky Mountain Steel (“EVRAZ”), IPSCO Tubulars, Inc. (IPSCO), Tejas Tubular Products, Inc. (Tejas Tubular), Vallourec Star, L.P. (Vallourec), and Welded Tube USA Inc. (Welded Tube) filed their intent to participate.⁴

³ See Letter to the Department from Maverick, dated December 3, 2014.

⁴ See Letter to the Department from Boomerang, Energex Tube, EVRAZ, IPSCO, Tejas Tubular, Vallourec, and Welded Tube, dated December 10, 2014.

On December 15, 2014, United States Steel Corporation (U.S. Steel) likewise timely notified the Department of its intent to participate.⁵ On December 31, 2014, the Department received an adequate substantive response from Boomerang, Energex Tube, EVRAZ, IPSCO, Maverick, Tejas Tubular, U.S. Steel, Vallourec, and Welded Tube within the 30-day deadline specified in 19 CFR 351.218(d)(3)(i).⁶ The Department did not receive substantive responses from any respondent interested party. As a result, pursuant to section 751(c)(3)(B) of the Act and 19 CFR 351.218(e)(1)(ii)(C)(2), the Department conducted an expedited (120-day) sunset review of the CVD order on OCTG from the PRC.

⁵ See Letter to the Department from U.S. Steel, dated December 15, 2014.

⁶ See Letter from domestic interested parties to the Department, entitled “Oil Country Tubular Goods From China, First Sunset Review: Substantive Response to Notice of Initiation,” dated December 31, 2014.

Scope of the Order

This order covers OCTG. The Issues and Decision Memorandum, which is hereby adopted by this notice, provides a full description of the scope of the order.⁷

⁷ See “Issues and Decision Memorandum for the Final Results of the Expedited First Sunset Review of the Countervailing Duty Order on Oil Country Tubular Goods from the People's Republic of China,” from Gary Taverman, Associate Deputy Assistant Secretary for Antidumping and Countervailing Duty Operations, to Paul Piquado, Assistant Secretary for Enforcement and Compliance, dated concurrently with this notice (Issues and Decision Memorandum).

The Issues and Decision Memorandum is a public document and is on file electronically via Enforcement and Compliance's Antidumping and Countervailing Duty Centralized Electronic Service System (ACCESS).⁸ ACCESS is available to registered users at http://access.trade.gov and in the Central Records Unit, room 7046 of the main Department of Commerce building. In addition, a complete version of the Issues and Decision Memorandum can be accessed at http://enforcement.trade.gov/frn/. The signed Issues and Decision Memorandum and the electronic version of the Issues and Decision Memorandum are identical in content.

⁸ On November 24, 2014, Enforcement and Compliance changed the name of Enforcement and Compliance's AD and CVD Centralized Electronic Service System (IA ACCESS) to AD and CVD Centralized Electronic Service System (ACCESS). The Web site location was changed from http://iaaccess.trade.gov to http://access.trade.gov. The Final Rule changing the references to the Regulations can be found at 79 FR 69046 (November 20, 2014).

Analysis of Comments Received

In the Issues and Decision Memorandum, we have addressed all issues that parties raised in this review. The issues include the likelihood of continuation or recurrence of countervailable subsidies and the net countervailable subsidies likely to prevail if the Department revoked the order.

Final Results of Sunset Review

Pursuant to sections 752(b)(1) and (3) of the Act, we determine that revocation of the CVD Order would be likely to lead to continuation or recurrence of countervailable subsidies at the following net countervailable subsidy rates:

Exporter/manufacturer | Net subsidy rate (percent)
Jiangsu Changbao Steel Tube Co. and Jiangsu Changbao Precision Steel Tube Co., Ltd | 22.87
Tianjin Pipe (Group) Co., Tianjin Pipe Iron Manufacturing Co., Ltd., Tianguan Yuantong Pipe Product Co., Ltd., Tianjin Pipe International Economic and Trading Co., Ltd., and TPCO Charging Development Co., Ltd | 20.90
Wuxi Seamless Pipe Co, Ltd., Jiangsu Fanli Steel Pipe Co, Ltd., and Tuoketuo County Mengfeng Special Steel Co., Ltd | 25.36
Zhejiang Jianli Enterprise Co., Ltd., Zhejiang Jianli Steel Tube Co., Ltd., Zhuji Jiansheng Machinery Co., Ltd., and Zhejiang Jianli Industry Group Co., Ltd | 26.19
All Others | 23.82

Administrative Protective Order

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(b), and 777(i)(1) of the Act and 19 CFR 351.218.

Dated: March 31, 2015.
Paul Piquado,
Assistant Secretary for Enforcement and Compliance.

Appendix—List of Topics Discussed in the Issues and Decision Memorandum

1. Summary

2. Background

3. Scope of the Order

4. History of the Order

5. Discussion of the Issues

a. Likelihood of Continuation or Recurrence of a Countervailable Subsidy

b. Net Countervailable Subsidy Likely To Prevail

6. Nature of the Subsidies

7. Final Results of Sunset Review

8. Recommendation

[FR Doc. 2015-07979 Filed 4-9-15; 8:45 am]

BILLING CODE 3510-DS-P